DEPARTMENT OF ENERGY

Federal Energy Regulatory Commission

Combined Notice of Filings No. 1

August 24, 2010.

Take notice that the Commission received the following electric corporate filings:

Docket Numbers: EC10-84-000.

Applicants: Black Hills Power, Inc.

Description: Supplemental Information of Black Hills Power Inc.

Filed Date: 08/23/2010.

Accession Number: 20100823-5188.

Comment Date: 5 p.m. Eastern Time on Thursday, September 02, 2010.

Take notice that the Commission received the following electric rate filings:

Docket Numbers: ER05-6-118; EL04-135-120; EL02-111-139; EL03-212-134.

Applicants: Midwest Independent Transmission System Operator, Inc.; PJM Interconnection, L.L.C.; Ameren Services Company.

Description: PJM Transmission Owners Agreement Administrative Committee submits revisions to PJM Open Access Transmission Tariff.

Filed Date: 08/19/2010.

Accession Number: 20100823-0204.

Comment Date: 5 p.m. Eastern Time on Monday, October 18, 2010.

Docket Numbers: ER09-1196-002.

Applicants: Lost Creek Wind, LLC.

Description: Supplement to Notice of Change in Status.

Filed Date: 08/23/2010.

Accession Number: 20100823-5175.

Comment Date: 5 p.m. Eastern Time on Monday, September 13, 2010.

Docket Numbers: ER10-1795-001.

Applicants: Golden Spread Electric Cooperative, Inc.

Description: Golden Spread Electric Cooperative, Inc. submits tariff filing per 35: 2010 Annual Update to be effective 7/16/2010.

Filed Date: 08/18/2010.

Accession Number: 20100818-5028.

Comment Date: 5 p.m. Eastern Time on Wednesday, September 08, 2010.

Docket Numbers: ER10-2210-000.

Applicants: New York Independent System Operator, Inc.

Description: New York Independent System Operator submits tariff filing per 35.17(a): Compliance Filing In-City ICAP—Kavanah to be effective 6/30/2010.

Filed Date: 08/23/2010.

Accession Number: 20100823-5172.

Comment Date: 5 p.m. Eastern Time on Monday, September 13, 2010.

Docket Numbers: ER10-2299-000.

Applicants: Entergy Arkansas, Inc.

Description: Entergy Arkansas, Inc. submits tariff filing per 35.13(a)(2)(iii: Dynamic Transfer Operating Agreement between ESI, Plum Point, and Osceola to be effective 8/20/2010.

Filed Date: 08/23/2010.

Accession Number: 20100823-5168.

Comment Date: 5 p.m. Eastern Time on Monday, September 13, 2010.

Docket Numbers: ER10-2300-000.

Applicants: New York Independent System Operator, Inc.

Description: New York Independent System Operator submits tariff filing per 35: Compliance Filing In-City ICAP—Kavanah to be effective 6/30/2010.

Filed Date: 08/23/2010.

Accession Number: 20100823-5173.

Comment Date: 5 p.m. Eastern Time on Monday, September 13, 2010.

Docket Numbers: ER10-2301-000.

Applicants: New York State Electric & Gas Corporation.

Description: New York State Electric & Gas Corporation submits its baseline market-based rate tariff, FERC Electric Tariff, First Revised Volume No 3, to be effective 8/23/2010.

Filed Date: 08/24/2010.

Accession Number: 20100824-5000.

Comment Date: 5 p.m. Eastern Time on Tuesday, September 14, 2010.

Docket Numbers: ER10-2302-000.

Applicants: Public Service Company of New Mexico.

Description: Public Service Company of New Mexico submits its Market-Based Rates Tariff filing FERC Electric Tariff, Volume No 3, to be effective 8/24/2010.

Filed Date: 08/24/2010.

Accession Number: 20100824-5002.

Comment Date: 5 p.m. Eastern Time on Tuesday, September 14, 2010.

Docket Numbers: ER10-2303-000.

Applicants: Arizona Public Service Company.

Description: Request for Interconnection Queue Waiver Authorization of Arizona Public Service Company.

Filed Date: 08/24/2010.

Accession Number: 20100824-5017.

Comment Date: 5 p.m. Eastern Time on Tuesday, September 14, 2010.

Docket Numbers: ER10-2304-000.

Applicants: Westar Energy, Inc.

Description: Westar Energy, Inc et al submits Notice of Cancellation to First Revised Rate Schedule 184 and Rate Schedules FERC Nos 311 and 312 with Midwest Energy, Inc.

Filed Date: 08/23/2010.

Accession Number: 20100824-0202.

Comment Date: 5 p.m. Eastern Time on Monday, September 13, 2010.

Docket Numbers: ER10-2305-000.

Applicants: PJM Interconnection, L.L.C.

Description: PJM Interconnection, LLC submits an executed interconnection service agreement with AES Armenia Mountain Wind, LLC et al.

Filed Date: 08/23/2010.

Accession Number: 20100824-0201.

Comment Date: 5 p.m. Eastern Time on Monday, September 13, 2010.

Docket Numbers: ER10-2306-000.

Applicants: Rochester Gas and Electric Corporation.

Description: Rochester Gas and Electric Corporation submits tariff filing per 35.12: RG&E MBR Baseline eTariff Filing to be effective 8/23/2010.

Filed Date: 08/24/2010.

Accession Number: 20100824-5020.

Comment Date: 5 p.m. Eastern Time on Tuesday, September 14, 2010.

Docket Numbers: ER10-2307-000.

Applicants: New York Independent System Operator, Inc.

Description: New York Independent System Operator submits tariff filing per 35.12: NYISO Agreements to be effective 8/24/2010.

Filed Date: 08/24/2010.

Accession Number: 20100824-5023.

Comment Date: 5 p.m. Eastern Time on Tuesday, September 14, 2010.

Docket Numbers: ER10-2308-000.

Applicants: Covanta Delano, Inc.

Description: Covanta Delano, Inc. submits its baseline market-based rate tariff filing, FERC Electric Rate Schedule, First Revisd Volume No 1, to be effective 8/24/2010.

Filed Date: 08/24/2010.

Accession Number: 20100824-5029.

Comment Date: 5 p.m. Eastern Time on Tuesday, September 14, 2010.

Docket Numbers: ER10-2309-000.

Applicants: Elwood Energy, LLC.

Description: Elwood Energy, LLC submits tariff filing per 35.12: Baseline to be effective 8/24/2010.

Filed Date: 08/24/2010.

Accession Number: 20100824-5032.

Comment Date: 5 p.m. Eastern Time on Tuesday, September 14, 2010.

Docket Numbers: ER10-2310-000.

Applicants: Covanta Delaware Valley, L.P.

Description: Covanta Delaware Valley, L.P. submits tariff filing per 35.12: Covanta Delaware Valley MBR Baseline eTariff Filing to be effective 8/24/2010.

Filed Date: 08/24/2010.

Accession Number: 20100824-5040.

Comment Date: 5 p.m. Eastern Time on Tuesday, September 14, 2010.

Docket Numbers: ER10-2311-000.

Applicants: Covanta Essex Company.

Description: Covanta Essex Company submits tariff filing per 35.12: Covanta Essex MBR Baseline eTariff Filing to be effective 8/24/2010.

Filed Date: 08/24/2010.

Accession Number: 20100824-5041.

Comment Date: 5 p.m. Eastern Time on Tuesday, September 14, 2010.

Docket Numbers: ER10-2312-000.

Applicants: Covanta Hempstead Company.

Description: Covanta Hempstead Company submits tariff filing per 35.12: Covanta Hempstead MBR Baseline eTariff Filing to be effective 8/24/2010.

Filed Date: 08/24/2010.

Accession Number: 20100824-5042.

Comment Date: 5 p.m. Eastern Time on Tuesday, September 14, 2010.

Docket Numbers: ER10-2313-000.

Applicants: Covanta Maine, LLC.

Description: Covanta Maine, LLC submits tariff filing per 35.12: Covanta Maine MBR Baseline eTariff Filing to be effective 8/24/2010.

Filed Date: 08/24/2010.

Accession Number: 20100824-5043.

Comment Date: 5 p.m. Eastern Time on Tuesday, September 14, 2010.

Docket Numbers: ER10-2314-000.

Applicants: Covanta Energy Marketing LLC.

Description: Covanta Energy Marketing LLC submits tariff filing per 35.12: Covanta Marketing MBR Baseline eTariff Filing to be effective 8/24/2010.

Filed Date: 08/24/2010.

Accession Number: 20100824-5044.

Comment Date: 5 p.m. Eastern Time on Tuesday, September 14, 2010.

Docket Numbers: ER10-2315-000.

Applicants: Covanta Niagara, L.P.

Description: Covanta Niagara, L.P. submits tariff filing per 35.12: Covanta Niagara MBR Baseline eTariff Filing to be effective 8/24/2010.

Filed Date: 08/24/2010.

Accession Number: 20100824-5045.

Comment Date: 5 p.m. Eastern Time on Tuesday, September 14, 2010.

Docket Numbers: ER10-2316-000.

Applicants: Covanta Plymouth Renewable Energy Limited Partnership

Description: Covanta Plymouth Renewable Energy Limited Partnership submits tariff filing per 35.12: Covanta Plymouth MBR Baseline eTariff Filing to be effective 8/24/2010.

Filed Date: 08/24/2010.

Accession Number: 20100824-5046.

Comment Date: 5 p.m. Eastern Time on Tuesday, September 14, 2010.

Docket Numbers: ER10-2317-000.

Applicants: BE CA LLC.

Description: BE CA LLC submits tariff filing per 35.12: Baseline eTariff Filing Pursuant to Order No. 714 to be effective 8/25/2010.

Filed Date: 08/24/2010.

Accession Number: 20100824-5047.

Comment Date: 5 p.m. Eastern Time on Tuesday, September 14, 2010.

Docket Numbers: ER10-2318-000.

Applicants: Covanta Power, LLC.

Description: Covanta Power, LLC submits tariff filing per 35.12: Covanta Power MBR Baseline eTariff Filing to be effective 8/24/2010.

Filed Date: 08/24/2010.

Accession Number: 20100824-5048.

Comment Date: 5 p.m. Eastern Time on Tuesday, September 14, 2010.

Docket Numbers: ER10-2319-000.

Applicants: BE Alabama LLC.

Description: BE Alabama LLC submits tariff filing per 35.12: Baseline eTariff Filing Pursuant to Order No. 714 to be effective 8/25/2010.

Filed Date: 08/24/2010.

Accession Number: 20100824-5049.

Comment Date: 5 p.m. Eastern Time on Tuesday, September 14, 2010.

Docket Numbers: ER10-2320-000.

Applicants: BE Allegheny LLC.

Description: BE Allegheny LLC submits tariff filing per 35.12: Baseline eTariff Filing Pursuant to Order No. 714 to be effective 8/25/2010.

Filed Date: 08/24/2010.

Accession Number: 20100824-5050.

Comment Date: 5 p.m. Eastern Time on Tuesday, September 14, 2010.

Docket Numbers: ER10-2321-000.

Applicants: Covanta Union, Inc.

Description: Covanta Union, Inc. submits tariff filing per 35.12: Covanta Union MBR Baseline eTariff Filing to be effective 8/24/2010.

Filed Date: 08/24/2010.

Accession Number: 20100824-5051.

Comment Date: 5 p.m. Eastern Time on Tuesday, September 14, 2010.

Docket Numbers: ER10-2322-000.

Applicants: BE Ironwood LLC.

Description: BE Ironwood LLC submits tariff filing per 35.12: Baseline eTariff Filing Pursuant to Order No. 714 to be effective 8/25/2010.

Filed Date: 08/24/2010.

Accession Number: 20100824-5052.

Comment Date: 5 p.m. Eastern Time on Tuesday, September 14, 2010.

Docket Numbers: ER10-2323-000.

Applicants: PJM Interconnection, L.L.C.

Description: PJM Interconnection, LLC submits Second Revised Sheet 111a et al to Third Revised Rate Schedule FERC No 24 to be effective 10/25/10.

Filed Date: 08/24/2010.

Accession Number: 20100824-0208.

Comment Date: 5 p.m. Eastern Time on Tuesday, September 14, 2010.

Docket Numbers: ER10-2324-000.

Applicants: BE KJ LLC.

Description: BE KJ LLC submits tariff filing per 35.12: Baseline eTariff Filing Pursuant to Order No. 714 to be effective 8/25/2010.

Filed Date: 08/24/2010.

Accession Number: 20100824-5053.

Comment Date: 5 p.m. Eastern Time on Tuesday, September 14, 2010.

Docket Numbers: ER10-2325-000.

Applicants: BE Louisiana LLC.

Description: BE Louisiana LLC submits tariff filing per 35.12: Baseline eTariff Filing Pursuant to Order No. 714 to be effective 8/25/2010.

Filed Date: 08/24/2010.

Accession Number: 20100824-5054.

Comment Date: 5 p.m. Eastern Time on Tuesday, September 14, 2010.

Docket Numbers: ER10-2326-000.

Applicants: Cedar Brakes I LLC.

Description: Cedar Brakes I LLC submits tariff filing per 35.12: Baseline eTariff Filing Pursuant to Order No. 714 to be effective 8/25/2010.

Filed Date: 08/24/2010.

Accession Number: 20100824-5055.

Comment Date: 5 p.m. Eastern Time on Tuesday, September 14, 2010.

Docket Numbers: ER10-2327-000.

Applicants: Cedar Brakes II LLC.

Description: Cedar Brakes II LLC submits tariff filing per 35.12: Baseline eTariff Filing Pursuant to Order No. 714 to be effective 8/25/2010.

Filed Date: 08/24/2010.

Accession Number: 20100824-5056.

Comment Date: 5 p.m. Eastern Time on Tuesday, September 14, 2010.

Docket Numbers: ER10-2328-000.

Applicants: Central Power & Lime LLC.

Description: Central Power & Lime LLC submits tariff filing per 35.12: Baseline eTariff Filing Pursuant to Order No. 714 to be effective 8/25/2010.

Filed Date: 08/24/2010.

Accession Number: 20100824-5057.

Comment Date: 5 p.m. Eastern Time on Tuesday, September 14, 2010.

Docket Numbers: ER10-2329-000.

Applicants: Vineland Energy LLC.

Description: Vineland Energy LLC submits tariff filing per 35.12: Baseline eTariff Filing Pursuant to Order No. 714 to be effective 8/25/2010.

Filed Date: 08/24/2010.

Accession Number: 20100824-5058.

Comment Date: 5 p.m. Eastern Time on Tuesday, September 14, 2010.

Docket Numbers: ER10-2330-000.

Applicants: Utility Contract Funding, LLC.

Description: Utility Contract Funding, LLC submits tariff filing per 35.12: Baseline eTariff Filing Pursuant to Order No. 714 to be effective 8/25/2010.

Filed Date: 08/24/2010.

Accession Number: 20100824-5059.

Comment Date: 5 p.m. Eastern Time on Tuesday, September 14, 2010.

Docket Numbers: ER10-2331-000.

Applicants: J.P. Morgan Ventures Energy Corporation.

Description: J.P. Morgan Ventures Energy Corporation submits tariff filing per 35.12: Baseline eTariff Filing Pursuant to Order No. 714 to be effective 8/25/2010.

Filed Date: 08/24/2010.

Accession Number: 20100824-5060.

Comment Date: 5 p.m. Eastern Time on Tuesday, September 14, 2010.

Docket Numbers: ER10-2332-000.

Applicants: BE Rayle LLC.

Description: BE Rayle LLC submits tariff filing per 35.12: Baseline eTariff Filing Pursuant to Order No. 714 to be effective 8/25/2010.

Filed Date: 08/24/2010.

Accession Number: 20100824-5061.

Comment Date: 5 p.m. Eastern Time on Tuesday, September 14, 2010.

Docket Numbers: ER10-2333-000.

Applicants: Bendwind, LLC.

Description: Bendwind, LLC submits tariff filing per 35.12: Bendwind, LLC Baseline Filing to be effective 8/25/2010.

Filed Date: 08/24/2010.

Accession Number: 20100824-5062.

Comment Date: 5 p.m. Eastern Time on Tuesday, September 14, 2010.

Docket Numbers: ER10-2334-000.

Applicants: Big Sky Wind, LLC.

Description: Big Sky Wind, LLC submits tariff filing per 35.12: Big Sky Wind, LLC Baseline Filing to be effective 8/25/2010.

Filed Date: 08/24/2010.

Accession Number: 20100824-5063.

Comment Date: 5 p.m. Eastern Time on Tuesday, September 14, 2010.

Docket Numbers: ER10-2335-000.

Applicants: DeGreeffpa, LLC.

Description: DeGreeffpa, LLC submits tariff filing per 35.12: DeGreeffpa, LLC Baseline Filing to be effective 8/25/2010.

Filed Date: 08/24/2010.

Accession Number: 20100824-5064.

Comment Date: 5 p.m. Eastern Time on Tuesday, September 14, 2010.

Docket Numbers: ER10-2336-000.

Applicants: DeGreeff DP, LLC.

Description: DeGreeff DP, LLC submits tariff filing per 35.12: DeGreeffpa, DP, LLC Baseline Filing to be effective 8/25/2010.

Filed Date: 08/24/2010.

Accession Number: 20100824-5065.

Comment Date: 5 p.m. Eastern Time on Tuesday, September 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-21655 Filed 8-30-10; 8:45 am]

BILLING CODE 6717-01-P